DEPARTMENT OF COMMERCE

National Oceanic and Atmospheric Administration

RIN 0648-XG032

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad hoc Community Advisory Board (CAB) will hold a one-day meeting in Rohnert Park, CA. The meeting is open to the public.

DATES: The meeting will be held on Friday, March 9, 2018, from 1 p.m. until business for the day has been completed.

ADDRESSES: The meeting will be held at the Oxford Suites Sonoma County, Redwood Ballroom, 67 Golf Course Drive West, Rohnert Park, CA 94928; telephone: (707) 584-0333.

Council address: Pacific Fishery Management Council, 7700 NE Ambassador Place, Suite 101, Portland, OR 97220.

FOR FURTHER INFORMATION CONTACT: Dr. Jim Seger, Pacific Council; telephone: (503) 820-2416.

SUPPLEMENTARY INFORMATION: The primary purpose of the CAB meeting is to continue to work on ranges of alternatives for modifying the trawl catch share program pursuant to the results from the catch share program review (alternatives for follow-on actions). The CAB may also comment on purpose and need statements, priorities, and other matters related to the Council's consideration of follow-on actions. The meeting will result in a report to be presented for Pacific Council consideration at the March 2018 Pacific Council meeting under Agenda Item H.6.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: February 14, 2018.
Tracey L. Thompson,
Acting Deputy Director, Office of Sustainable Fisheries, National Marine Fisheries Service.

[FR Doc. 2018-03435 Filed 2-20-18; 8:45 am]

BILLING CODE 3510-22-P